DEPARTMENT OF COMMERCE

National Institute of Standards and Technology

[Docket No.: 071220879-8021-01]

Measurement, Science and Engineering Grants Programs; Availability of Funds

AGENCY: National Institute of Standards and Technology, Commerce.

ACTION: Notice.

SUMMARY: The National Institute of Standards and Technology (NIST) announces that the following programs are soliciting applications for financial assistance for FY 2008: (1) The Electronics and Electrical Engineering Laboratory Grants Program; (2) the Manufacturing Engineering Laboratory Grants Program; (3) the Chemical Science and Technology Laboratory Grants Program; (4) the Physics Laboratory Grants Program; (5) the Materials Science and Engineering Laboratory Grants Program; (6) the Building Research Grants and Cooperative Agreements Program; (7) the Fire Research Grants Program; (8) the Information Technology Laboratory Grants Program; (9) the NIST Center for Neutron Research Grants Program; (10) Center for Nanoscale Science and Technology Grants Program; and (11) the NCNR Sample Environment Equipment Financial Assistance Program. Each program will only consider applications that are within the scientific scope of the program as described in this notice and in the detailed program descriptions found in the Federal Funding Opportunity (FFO) announcement for these programs. Prior to preparation of a proposal, it is strongly suggested that potential applicants contact the Program Manager for the appropriate field of research, as specified in the FFO announcement found at http://www.grants.gov, for clarification of the program objectives and to determine whether their proposal is responsive to this notice.

DATES: See below.

ADDRESSES: See below.

SUPPLEMENTARY INFORMATION: Catalog of Federal Domestic Assistance Name and Number: Measurement and Engineering Research and Standards—11.609.

Electronics and Electrical Engineering Laboratory (EEEL) Grants Program

Program Description: The Electronics and Electrical Engineering Laboratory (EEEL) Grants Program will provide grants and cooperative agreements for the development of fundamental electrical metrology and of metrology supporting industry and government agencies in the broad areas of semiconductors, electronic instrumentation, radio-frequency technology, optoelectronics, magnetics, superconductors, electronic commerce as applied to electronic products and devices, the transmission and distribution of electrical power, national electrical standards (fundamental, generally quantum-based physical standards), and law enforcement standards.

DATES: All applications, paper and electronic, must be received no later than 5 p.m. Daylight Savings Time on June 15, 2008.

ADDRESSES: Paper applications must be submitted to: Sheilda Bryner, Electronics and Electrical Engineering Laboratory, National Institute of Standards and Technology, 100 Bureau Drive, Stop 8100, Gaithersburg, MD 20899-8100. Electronic applications and associated proposal information should be uploaded to http://www.grants.gov.

FOR FURTHER INFORMATION CONTACT: For complete information about this program and instructions for applying by paper or electronically, read the Federal Funding Opportunity (FFO) Notice at http://www.grants.gov. A paper copy of the FFO may be obtained by calling (301) 975-6328. Program questions should be addressed to Sheilda Bryner, Electronics and Electrical Engineering Laboratory, National Institute of Standards and Technology, 100 Bureau Drive, Stop 8100, Gaithersburg, MD 20899-8100, Tel.: (301) 975-2220, Fax: (301) 975-4091. Grants administration questions concerning this program should be addressed to: Melinda Chukran, NIST Grants and Agreements Management Division, (301) 975-5266; melinda.chukran@nist.gov. For assistance with using http://www.grants.gov, contact support@grants.gov.

Funding Availability

In fiscal year 2007, the EEEL Grants Program made 10 new awards, totaling $636,245. The amount available each year fluctuates considerably based on programmatic needs and funding availability. For FY 2008, individual awards are expected to range between $5,000 and $150,000.

For the Electronics and Electrical Engineering Laboratory Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Electronics and Electrical Engineering Laboratory Grants Program, and the availability of funds. The multi-year awards must have scopes of work that can be easily separated into annual increments of meaningful work that represent solid accomplishments if prospective funding is not made available to the applicant (i.e., the scopes of work for each funding period must produce identifiable and meaningful results in and of themselves).

Statutory Authority: As authorized by 15 U.S.C. 272(b) and (c), the NIST Electronics and Electrical Engineering Laboratory conducts a basic and applied research program directly and through grants and cooperative agreements to eligible recipients.

Eligibility: The Electronics and Electrical Engineering Laboratory Grants Program is open to institutions of higher education; hospitals; non-profit organizations; commercial organizations; state, local, and Indian tribal governments; foreign governments; organizations under the jurisdiction of foreign governments; and international organizations.

Review and Selection Process: For the Electronics and Electrical Engineering Laboratory Grants Program, proposals will be reviewed in a three-step process. First, the EEEL Grants Coordinator, or the Deputy Director of EEEL, will determine the compatibility of the applicant's proposal with EEEL Program Areas and the relevance to the objectives of the Electronics and Electrical Engineering Laboratory Grants Program, described in the Program Description section above. If it is determined that the proposal is incomplete or non-responsive to the scope of the stated objectives, the proposal will not be reviewed for technical merit. If it is determined that all funds available for the EEEL Grants Program for the given fiscal year have been exhausted, the proposal will not be reviewed for technical merit. Proposers may contact EEEL at 301-975-2220 to find out if funds have been exhausted for the fiscal year. EEEL will also post a notice on its Web site, http://www.eeel.nist.gov/eeel_grants/, when funds are exhausted for the fiscal year. EEEL will notify proposers in writing if their proposals are not reviewed for technical merit.

Second, proposals will be distributed for technical review by the EEEL Grants Coordinator, or other technical professionals familiar with the programs of the Electronics and Electrical Engineering Laboratory, to the appropriate Division or Office based on technical area. At least three independent, objective individuals knowledgeable about the particular scientific area addressed by the proposal will conduct a technical review based on the evaluation criteria. If non-Federal reviewers are used, the reviewers may discuss the proposals with each other, but scores will be determined on an individual basis, not as a consensus.

Reviews will be conducted on a monthly basis, and all proposals received on or before the 15th day of the month will be ranked based on the reviewers' scores.

Third, the Division Chief or Office Director will make application selections. In making application selections, the Division Chief or Office Director will take into consideration the results of the reviewers' evaluations, the availability of funding, and relevance to the objectives or research areas of the Electronics and Electrical Engineering Laboratory Grants Program, as described in the Program Description section above. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the Electronics and Electrical Engineering Laboratory Grants Program, the evaluation criteria and weights to be used by the technical reviewers in evaluating the proposals are as follows:

Proposal addresses specific program objectives as described in this notice (25%)

Proposal provides evidence of applicant's expertise in relevant technical area (20%)

Proposal offers innovative approach (20%)

Proposal provides realistic schedule with defined milestones (20%)

Proposal provides adequate rationale for budget (15%)

Cost Share Requirements: The Electronics and Electrical Engineering Laboratory Grants Program does not require any matching funds.

Manufacturing Engineering Laboratory (MEL) Grants Program

Program Description: The Manufacturing Engineering Laboratory (MEL) Grants Program will provide grants and cooperative agreements in the following fields of research: Dimensional Metrology for Manufacturing, Mechanical Metrology for Manufacturing, Machine Tool and Machining Process Metrology, Intelligent Systems, and Information Systems Integration for Applications in Manufacturing. Specific information regarding program objectives can be found in the corresponding Federal Funding Opportunity for this announcement.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the MEL Grants Program in order to be processed under this solicitation.

Addresses: Paper applications must be submitted to: Ms. Alana Glover, Manufacturing Engineering Laboratory, National Institute of Standards and Technology, 100 Bureau Drive, Stop 8200, Building 220, Room B322, Gaithersburg, Maryland 20899-8200. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Ms. Alana Glover, Manufacturing Engineering Laboratory, National Institute of Standards and Technology, 100 Bureau Drive, Stop 8200, Building 220, Room B322, Gaithersburg, Maryland 20899-8200, Tel: (301) 975-3400, E-mail: aglover@nist.gov. Grants administration questions concerning this program should be addressed to: Melinda Chukran, NIST Grants and Agreements Management Division, (301) 975-5266; melinda.chukran@nist.gov. For assistance with using http://www.grants.gov, contact support@grants.gov.

Funding Availability: In fiscal year 2007, the MEL Grants Program funded 8 new awards, totaling $729,775.49. In fiscal year 2008 the MEL Grants Program anticipates funding of approximately $500,000. Individual awards are expected to range from approximately $25,000 to $250,000.

For the MEL Grants Program, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MEL program, and the availability of funds. The multi-year awards must have scopes of work that can be easily separated into annual increments of meaningful work that represent solid accomplishments if prospective funding is not made available to the applicant, (i.e., the scopes of work for each funding period must produce identifiable and meaningful results in and of themselves).

Statutory Authority: As authorized under 15 U.S.C. 272(b) and (c), the MEL conducts a basic and applied research program directly and through grants and cooperative agreements to eligible recipients.

Eligibility: The MEL Grants Program is open to institutions of higher education; hospitals; non-profit organizations; commercial organizations; state, local, and Indian tribal governments; foreign governments; organizations under the jurisdiction of foreign governments; and international organizations.

Review and Selection Process: For the MEL Grants Program responsive proposals will be assigned, as received on a rolling basis, to the most appropriate area for review. Proposals will be reviewed in a three-step process. First, the MEL Deputy Director or the appropriate MEL Division Chief will determine the applicability of the proposal with regard to MEL programs and the relevance of the proposal's objectives to current MEL research. If it is determined that the proposal is incomplete or non-responsive to the scope of the stated objectives, the proposal will not be reviewed for technical merit. Second, the appropriate MEL Division Chief or MEL Program Manager will determine the possibility for funding availability within the MEL technical program area most relevant to the objectives of the proposal. If it is determined that sufficient funding is not available to consider grants proposals in the technical area of the proposal, the proposal will not be reviewed for technical merit. Third, if the proposal passes the first two steps, at least three independent, objective individuals knowledgeable about the particular scientific area addressed by the proposal will conduct a technical review based on the evaluation criteria. If non-Federal reviewers are used, the reviewers may discuss the proposal with each other, but scores will be determined on an individual basis, not as a consensus.

The MEL Director or appropriate MEL Division Chief will make application selections from the grants proposals submitted. In making the application selections, the Laboratory Director or Division Chief will take into consideration the results of the reviewers' evaluations, the availability of funds, and relevance to the objectives or research areas of the MEL Grants Program. These objectives are described above in the Program Description section.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the MEL Grants Program, the evaluation criteria the technical reviewers will use in evaluating the proposals are as follows:

1. Rationality. Reviewers will consider the coherence of the applicant's approach and the extent to which the proposal effectively addresses scientific and technical issues.

2. Technical Merit of Contribution. Reviewers will consider the potential technical effectiveness of the proposal and the value it would contribute to the field of manufacturing engineering and metrology research. Proposals must be relevant to current MEL research and have a relation to the objectives of ongoing MEL programs and activities.

3. Qualifications of Technical Personnel. Reviewers will consider the professional accomplishments, skills, and training of the proposed personnel to perform the work in the project.

4. Resources Availability. Reviewers will consider the extent to which the proposer has access to the necessary facilities and overall support to accomplish project objectives.

Each of these factors will be given equal weight in the evaluation process.

Cost Share Requirements: The MEL Grants Program does not require any matching funds.

Chemical Science and Technology Laboratory Grants Program

Program Description: The Chemical Science and Technology Laboratory (CSTL) Grants Program will provide grants and cooperative agreements consistent with the CSTL mission in the following fields of measurement science research, focused on reference methods, reference materials and reference data: Biochemical Science Process Measurements, Surface and Microanalysis Science, Physical and Chemical Properties, and Analytical Chemistry. Specific information regarding program objectives can be found in the corresponding Federal Funding Opportunity for this announcement.

The Programs are structured to support CSTL's three objectives:

1. Provide the national traceability and international comparability structure for measurements in chemistry, chemical engineering, and biochemical sciences.

2. Assure that U.S. industry has access to accurate and reliable data and predictive models to determine the chemical and physical properties of materials and processes;

3. Anticipate and address next-generation measurement needs of the Nation.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the CSTL Grants Program in order to be processed under this solicitation.

Addresses: Paper applications must be submitted to: Ms. Donna Kimball, Chemical Science and Technology Laboratory, National Institute of Standards and Technology, 100 Bureau Drive, Stop 8300, Gaithersburg, MD 20899-8300. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Ms. Donna Kimball, Chemical Science and Technology Laboratory, National Institute of Standards and Technology, 100 Bureau Drive, Stop 8300, Gaithersburg, MD 20899-8300, Tel (301) 975-8300, E-Mail: donna.kimball@nist.gov. Grants administration questions concerning this program should be addressed to: Melinda Chukran, NIST Grants and Agreements Management Division, (301) 975-5266; melinda.chukran@nist.gov. For assistance with using http://www.grants.gov, contact support@grants.gov.

Funding Availability

No funds have been set aside specifically for the CSTL Grants Program. The availability of funds depends upon actual authorization of funds and other costs expected to be incurred by individual divisions within the laboratory. Where funds are identified as available for grants, those funds will be awarded to highly ranked proposals as determined by the process described in this notice.

In fiscal year 2007, the CSTL Grants Program funded 4 new awards, totaling $341,195.00. In fiscal year 2008, the CSTL Grants Program anticipates funding of approximately $1,000,000. Individual awards are expected to range from approximately $5,000 to $100,000.

For the Chemical Science and Technology Laboratory Grant Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Chemical Science and Technology Laboratory program, and the availability of funds. The multi-year awards must have scopes of work that can be easily separated into annual increments of meaningful work that represent solid accomplishments if prospective funding is not made available to the applicant, (i.e. the scopes of work for each funding period must produce identifiable and meaningful results in and of themselves).

Statutory Authority: As authorized under 15 U.S.C. 272(b) and (c), the Chemical Science and Technology Laboratory conducts a basic and applied research program directly and through grants and cooperative agreements to eligible recipients.

Eligibility: The Chemical Science and Technology Laboratory Grants Program is open to institutions of higher education; hospitals; non-profit organizations; commercial organizations; state, local, and Indian tribal governments; foreign governments; organizations under the jurisdiction of foreign governments; and international organizations.

Review and Selection Process: For the Chemical Science and Technology Laboratory Grants Program, proposals will be reviewed in a three-step process. First, the Deputy Director of CSTL, or appropriate CSTL Division Chief, will determine the compatibility of the applicant's proposal with CSTL Program Areas and the relevance to the objectives of the Chemical Science and Technology Laboratory Grants Program, described in the Program Description section above. If it is determined that the proposal is incomplete or non-responsive to the scope of the stated objectives, the proposal will not be reviewed for technical merit.

Second, at least three independent, objective individuals knowledgeable about the particular measurement science area addressed by the proposal will conduct a technical review based on the evaluation criteria. Reviews will be conducted on a quarterly basis, subject to the availability of funds, and all responsive, complete proposals received and reviewed since the last quarter will be ranked based on the reviewers' scores. If non-Federal reviewers are used, the reviewers may discuss the proposals with each other, but scores will be determined on an individual basis, not as a consensus.

Third, the Division Chief and the CSTL Deputy Director, in collaboration, will make application selections, taking into consideration the results of the reviewers' evaluations, the availability of funds, and the relevance to the objectives or research areas described in the Program Description section above.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decisions of the Grants Officer are final.

Unsuccessful applicants will be notified in writing. The Program will retain one copy of each unsuccessful application for three years for record-keeping purposes. The remaining copies will be destroyed.

Evaluation Criteria: For the Chemical Science and Technology Laboratory Grants Program, the evaluation criteria the technical reviewers will use in evaluating the proposals are as follows:

1. Rationality. Reviewers will consider the coherence of the applicant's approach and the extent to which the proposal effectively addresses scientific and technical issues.

2. Qualifications of Technical Personnel. Reviewers will consider the professional accomplishments, skills, and training of the proposed personnel to perform the work in the project.

3. Resources Availability. Reviewers will consider the extent to which the proposer has access to the necessary facilities and overall support to accomplish project objectives.

4. Technical Merit of Contribution. Reviewers will consider the potential technical effectiveness of the proposal and the value it would contribute to the field of measurement science, especially as it pertains to reference methods, reference materials and reference data in Chemical Science and Technology.

Each of these factors will be given equal weight in the evaluation process.

Cost Share Requirements: The Chemical Science and Technology Laboratory Grants Program does not require any matching funds.

Physics Laboratory Grants Program

Program Description: The Physics Laboratory (PL) Grants Program will provide grants and cooperative agreements in the following fields of research: Electron and Optical Physics, Atomic Physics, Optical Technology, Ionizing Radiation, Time and Frequency, and Quantum Physics. Specific information regarding program objectives can be found in the corresponding Federal Funding Opportunity for this announcement.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the Physics Grants Program in order to be processed under this solicitation.

Addresses: Paper applications must be submitted to: Ms. Anita Sweigert, Physics Laboratory, National Institute of Standards and Technology, 100 Bureau Drive, Stop 8400, Gaithersburg, MD 20899-8400. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Ms. Anita Sweigert, Physics Laboratory, National Institute of Standards and Technology, 100 Bureau Drive, Stop 8400, Gaithersburg, MD 20899-8400, Tel (301) 975-4200, E-mail: anita.sweigert@nist.gov. It is strongly suggested to first confirm the program objectives with the Program Manager prior to preparing a detailed proposal. Grants administration questions concerning this program should be addressed to: Melinda Chukran, NIST Grants and Agreements Management Division, (301) 975-5266; melinda.chukran@nist.gov. For assistance with using http://www.grants.gov, contact support@grants.gov.

Funding Availability

In fiscal year 2007, the PL Grants Program funded 13 new awards, totaling $1,718,401.00. In fiscal year 2008, the PL Grants Program anticipates funding of approximately $2,000,000, including new awards and continuing projects. Funding availability will be apportioned by quarter. Individual awards are expected to range from approximately $5,000 to $500,000 per year.

For the Physics Laboratory Grants Program, proposals will be considered for research projects from one to five years. When a proposal for a multi-year project is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Physics Laboratory program, and the availability of funds. The multi-year awards must have scopes of work that can be easily separated into annual increments of meaningful work that represent solid accomplishments if prospective funding is not made available to the applicant (i.e., the scopes of work for each funding period must produce identifiable and meaningful results in and of themselves).

Statutory Authority: As authorized under 15 U.S.C. 272(b) and (c), the Physics Laboratory conducts a basic and applied research program directly and through grants and cooperative agreements to eligible recipients.

Eligibility: The Physics Laboratory Grants Program is open to institutions of higher education; hospitals; non-profit organizations; commercial organizations; state, local, and Indian tribal governments; foreign governments; organizations under the jurisdiction of foreign governments; and international organizations.

Review and Selection Process: For the Physics Laboratory Grants Program, responsive proposals will be considered as follows: First, at least three independent, objective individuals knowledgeable about the particular scientific area described in the proposal will conduct a technical review of each proposal, based on the evaluation criteria. Reviews will be conducted on a monthly basis within each division of the Physics Laboratory, and all proposals received during the month will be ranked based on the reviewers' scores. If non-Federal reviewers are used, reviewers may discuss the proposals with each other, but scores will be determined on an individual basis, not as a consensus.

Next, the Division Chief will make final application selections, taking into consideration the results of the reviewers' evaluations, including rank; the compilation of a slate that, when taken as a whole, is likely to best further the program interests described in the Program Description section above; and the availability of funds. The final approval of selected applications and award of financial assistance will be made by the NIST Grants Officer based on compliance with application requirements as published in this notice, compliance with applicable legal and regulatory requirements, and whether the recommended applicants appear to be responsible.

Applicants may be asked to modify objectives, work plans, or budgets and provide supplemental information required by the agency prior to award.

The decisions of the Grants Officer are final.

Unsuccessful applicants will be notified in writing. The Program will retain one copy of each unsuccessful application for three years for record-keeping purposes. The remaining copies will be destroyed.

Evaluation Criteria: For the Physics Laboratory Grants Program, the evaluation criteria the technical reviewers will use in evaluating the proposals are as follows:

1. Rationality. Reviewers will consider the coherence of the applicant's approach and the extent to which the proposal effectively addresses scientific and technical issues that are relevant to Physics Laboratory programs.

2. Qualifications of Technical Personnel. Reviewers will consider the professional accomplishments, skills, and training of the proposed personnel to perform the work in the project.

3. Resources Availability. Reviewers will consider the extent to which the proposer has access to the necessary facilities and overall support to accomplish project objectives.

4. Technical Merit of Contribution. Reviewers will consider the potential technical effectiveness of the proposal and the value it would contribute to the field of physics.

Each of these factors will be given equal weight in the evaluation process.

Cost Share Requirements: The Physics Laboratory Grants Program does not require any matching funds.

MSEL Grants Program

Program Description: The Materials Science and Engineering Laboratory (MSEL) Grants Program will provide grants and cooperative agreements in the following fields of research: Ceramics, Metallurgy, Polymers, and Materials Reliability. Specific information regarding program objectives can be found in the corresponding Federal Funding Opportunity for this announcement.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the MSEL Grants Program in order to be processed under this solicitation.

Addresses: Paper applications must be submitted to: Ms. Nancy Selepak, Materials Science and Engineering Laboratory, National Institute of Standards and Technology, 100 Bureau Drive, Stop 8500, Gaithersburg, Maryland 20899-8500. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Ms. Nancy Selepak, Materials Science and Engineering Laboratory, National Institute of Standards and Technology, 100 Bureau Drive, Stop 8500, Gaithersburg, Maryland 20899-8500, Tel: (301) 975-2047, E-mail: nancy.selepak@nist.gov. Grants administration questions concerning this program should be addressed to: Melinda Chukran, NIST Grants and Agreements Management Division, (301) 975-5266; melinda.chukran@nist.gov. For assistance with using http://www.grants.gov, contact support@grants.gov.

Funding Availability

In fiscal year 2007, the MSEL Grants Program funded 19 new awards, totaling $1,484,478.66. In fiscal year 2008, the MSEL Grants Program anticipates funding of approximately $3,300,000, including new awards and continuing projects. Most grants and cooperative agreements are expected to be in the $2,000 to $500,000 per year range.

For the MSEL Grants Program, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MSEL program, and the availability of funds. The multi-year awards must have scopes of work that can be easily separated into annual increments of meaningful work that represent solid accomplishments if prospective funding is not made available to the applicant (i.e., the scopes of work for each funding period must produce identifiable and meaningful results in and of themselves).

Statutory Authority: As authorized under 15 U.S.C. 272(b) and (c), the MSEL conducts a basic and applied research program directly and through grants and cooperative agreements to eligible recipients.

Eligibility: The MSEL Grants Program is open to institutions of higher education; hospitals; non-profit organizations; commercial organizations; state, local, and Indian tribal governments; foreign governments; organizations under the jurisdiction of foreign governments; and international organizations.

Review and Selection Process: For the MSEL Grants Program, proposals will be reviewed in a two-step process. First, at least three independent, objective individuals knowledgeable in the particular scientific area addressed by the proposal will conduct a technical review. Proposals are received on a rolling basis and will be reviewed based on the evaluation criteria. If non-Federal reviewers are used, the reviewers may discuss the proposals with each other, but scores will be determined on an individual basis, not as a consensus. Second, the Division Chief or Laboratory Deputy Director will make application selections. In making application selections, the Division Chief or Laboratory Deputy Director will take into consideration the results of the reviewers' evaluations, the availability of funds, and relevance to the objectives or research areas of the MSEL Grants Program, described in the Program Description section of the FFO. For conferences, workshops, or other technical research meetings, the Division Chief or Laboratory Deputy Director will also take into consideration whether they align with ongoing MSEL programmatic activities. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record-keeping purposes. The remaining copies will be destroyed.

Evaluation Criteria: For the MSEL Grants Program, the evaluation criteria the technical reviewers will use in evaluating the proposals are as follows:

1. Rationality. Reviewers will consider the coherence of the applicant's approach and the extent to which the proposal effectively addresses scientific and technical issues.

2. Qualifications of Technical Personnel. Reviewers will consider the professional accomplishments, skills, and training of the proposed personnel to perform the work in the project.

3. Resources Availability. Reviewers will consider the extent to which the proposer has access to the necessary facilities and overall support to accomplish project objectives.

4. Technical Merit of Contribution. Reviewers will consider the potential technical effectiveness of the proposal and the value it would contribute to the field of materials science and engineering. Proposals must be relevant to current MSEL research and have a relation to the objectives of ongoing MSEL programs and activities.

Each of these factors will be given equal weight in the evaluation process.

Cost Share Requirements: The MSEL Grants Program does not require any matching funds.

Building Research Grants and Cooperative Agreements Program

Program Description: The Building Research Grants and Cooperative Agreements Program will provide grants and cooperative agreements in the following fields of research: Structures, Construction Metrology and Automation, Inorganic Materials, Polymeric Materials, HVAC & R Equipment Performance, Mechanical Systems and Controls, Heat Transfer and Alternative Energy Systems, Computer Integrated Building Processes, and Indoor Air Quality and Ventilation.

The Building Research Grants and Cooperative Agreements Program supports the formal mission of the Building and Fire Research Laboratory, which is to meet the measurement and standards needs of the Building and Fire communities. All proposals submitted must be in accordance with the program objectives found in the corresponding Federal Funding Opportunity for this announcement.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the Building Research Grants and Cooperative Agreements Program in order to be processed under this solicitation.

Addresses: Paper applications must be submitted to: Karen Perry, Building and Fire Research Laboratory, National Institute of Standards and Technology, 100 Bureau Drive, Stop 8602, Gaithersburg, MD 20899-8602. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Karen Perry, Building and Fire Research Laboratory, National Institute of Standards and Technology, 100 Bureau Drive, Stop 8602, Gaithersburg, MD 20899-8602, Tel.: (301) 975-5910, karen.perry@nist.gov, Fax: (301) 975-4032, and Web site http://www.bfrl.nist.gov. Grants administration questions concerning this program should be addressed to: Melinda Chukran, NIST Grants and Agreements Management Division, (301) 975-5266; melinda.chukran@nist.gov. For assistance with using http://www.grants.gov, contact support@grants.gov.

Funding Availability

In fiscal year 2007, the Building Research Grants and Cooperative Agreements Program funded 7 new awards, totaling $378,908.00. No funds have been set aside specifically for the Building Research Grants and Cooperative Agreements Program. The availability of funds depends upon actual authorization of funds and other costs expected to be incurred by the individual divisions. The amount available each year fluctuates considerably based on programmatic needs. In FY 2008, individual awards are expected to range between $5,000 and $150,000.

For the Building Research Grants and Cooperative Agreements Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Building Research Grants and Cooperative Agreements Program, and the availability of funds. The multi-year awards must have scopes of work that can be easily separated into annual increments of meaningful work that represent solid accomplishments if prospective funding is not made available to the applicant, (i.e., the scopes of work for each funding period must produce identifiable and meaningful results in and of themselves).

Statutory Authority: As authorized by 15 U.S.C. 272(b) and (c), the NIST Building and Fire Research Laboratory conducts a basic and applied research program directly and through grants and cooperative agreements to eligible recipients.

Eligibility: The Building Research Grants and Cooperative Agreements Program is open to institutions of higher education; hospitals; non-profit organizations; commercial organizations; state, local, and Indian tribal governments; foreign governments; organizations under the jurisdiction of foreign governments; and international organizations.

Review and Selection Process: All applications received in response to this announcement will be reviewed to determine whether or not they are complete and responsive. Incomplete or non-responsive applications will not be reviewed for technical merit. The Program will retain one copy of each non-responsive application for three years for recordkeeping purposes. The remaining copies will be destroyed.

Responsive proposals will be forwarded to the appropriate Division Chief, who will assign them to appropriate reviewers. At least three independent, objective individuals knowledgeable about the particular scientific addressed by the proposal will conduct a technical review based on the evaluation criteria. When non-Federal reviewers are used, reviewers may discuss the proposals with each other, but scores will be determined on an individual basis, not as a consensus. Reviews will be conducted no less than once per quarter, and all proposals since the last review session will be ranked based on the reviewers' scores.

Next, the Division Chief, Laboratory Deputy Director, or Laboratory Director will make application selections. In making application selections, the Division Chief, Laboratory Deputy Director, or Laboratory Director will take into consideration the results of the reviewers' evaluations including score, the availability of funds, and relevance to the objectives or research areas of the Building Research Grants and Cooperative Agreements Program, as described in the Program Description section above.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: The Divisions of the Building and Fire Research Laboratory will score proposals based on the following criteria and weights:

1. Technical quality of the research. Reviewers will assess the rationality, innovation and imagination of the proposal and the fit to NIST's in-house building research programs. (0-35 points)

2. Potential impact of the results. Reviewers will assess the potential impact and the technical application of the results to NIST's in-house programs and the building industry. (0-25 points)

3. Staff and institution capability to do the work. Reviewers will evaluate the quality of the facilities and experience of the staff to assess the likelihood of achieving the objective of the proposal. (0-20 points)

4. Match of budget to proposed work. Reviewers will assess the budget against the proposed work to ascertain the reasonableness of the request. (0-20 points)

Cost Share Requirements: The Building Research Grants and Cooperative Agreements Program does not require any matching funds.

Fire Research Grants Program

Program Description: The Fire Research Grants Program will provide funding for innovative ideas in the fire research area generated by the proposal writer, who chooses the topic and approach. The Fire Research Grants Program will provide grants and cooperative agreements in the following fields of research analysis and prediction, fire metrology, fire fighting technology, materials and products, and integrated performance assessment. Specific information regarding program objectives can be found in the corresponding Federal Funding Opportunity for this announcement.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the Fire Research Grants Program in order to be processed under this solicitation.

Addresses: Paper applications must be submitted to: Ms. Wanda Duffin-Ricks, Building and Fire Research Laboratory (BFRL), National Institute of Standards and Technology, 100 Bureau Drive, Stop 8660, Gaithersburg, Maryland 20899-8660. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Ms. Wanda Duffin-Ricks, Building and Fire Research Laboratory (BFRL), National Institute of Standards and Technology, 100 Bureau Drive, Stop 8660, Gaithersburg, Maryland 20899-8660, Tel: (301) 975-6863, E-mail: wanda.duffin@nist.gov, Web site: http://www.bfrl.nist.gov. Grants administration questions concerning this program should be addressed to: Melinda Chukran, NIST Grants and Agreements Management Division, (301) 975-5266; melinda.chukran@nist.gov. For assistance with using http://www.grants.gov, contact support@grants.gov.

Funding Availability: For the Fire Research Grants Program, the annual budget is $1.3 million. Because of commitments for the support of multi-year projects and because proposals may have been deferred from the previous year's competition, only a portion of the budget is available to fund applications received in response to this notice. Most grants and cooperative agreements are in the $25,000 to $125,000 per year range, with a maximum requested duration of three years. In fiscal year 2007, the Fire Research Grants Program funded 13 new awards, totaling $1,028,069.

For the Fire Research Grants Program, proposals will be considered for research projects from one to three years. When a proposal for a multi-year project is approved, funding will normally be provided for only the first year of the program. If an application is selected for funding, NIST has no obligation to provide any additional future funding in connection with that award. Funding for each subsequent year of a multi-year proposal will be contingent on satisfactory progress, continuing relevance to the mission of the NIST Fire Research Program, and the availability of funds.

Statutory Authority: As authorized by 15 U.S.C. 278f, the NIST Building and Fire Research Laboratory conducts directly and through grants and cooperative agreements, a basic and applied fire research program.

Eligibility: The Fire Research Grants Program is open to institutions of higher education; hospitals; non-profit organizations; commercial organizations; state, local, and Indian tribal governments; foreign governments; organizations under the jurisdiction of foreign governments; and international organizations.

Review and Selection Process: Prospective proposers are encouraged to contact the group leaders listed in the FFO announcement to determine the responsiveness of the proposal and compliance with program objectives prior to preparation of a detailed proposal; however, written pre-proposals and white papers are not solicited and will not be reviewed for other than compliance and responsiveness. Responsive proposals will be assigned, as received on a rolling basis, to the most appropriate group. Proposals are evaluated for technical merit based on the evaluation criteria described above by at least three reviewers chosen from NIST professionals, technical experts from other interested government agencies, and experts from the fire research community at large. When non-Federal reviewers are used, reviewers may discuss the proposals with each other, but scores will be determined on an individual basis, not as a consensus. The group leaders will make funding recommendations to the Division Chief based on the technical evaluation score and the relationship of the work proposed to the objectives of the program. Proposal submitted to another agency will be considered for possible joint-funding if approved by the other agency.

In making application selections, the Division Chief will take into consideration the results of the reviewers' evaluations, including the scores of the reviewers, the group leader's recommendation, the availability of funds, and relevance to the objectives or research areas of the Fire Research Grants Program, as described in the Program Description section above. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: For the Fire Research Grants Program, the technical evaluation criteria are as follows:

1. Technical quality of the research. Reviewers will assess the rationality, innovation and imagination of the proposal. (0-35 points)

2. Potential impact of the results. Reviewers will assess the potential impact and the technical application of the results to the fire safety community. (0-25 points )

3. Staff and institution capability to do the work. Reviewers will evaluate the quality of the facilities and experience of the staff to assess the likelihood of achieving the objective of the proposal. (0-20 points)

4. Match of budget to proposed work. Reviewers will assess the budget against the proposed work to ascertain the reasonableness of the request. (0-20 points)

Cost Share Requirements: The Fire Research Grants Program does not require any matching funds.

Information Technology Laboratory (ITL) Grants Program

Program Description: The Information Technology Laboratory Grants Program will provide grants and cooperative agreements in the broad areas of mathematical and computational sciences, advanced network technologies, information access, and software testing. Specific objectives of interest in these areas of research include: quantum information theory, computational materials science, network science, mathematical foundations of measurement science for information systems, mathematical knowledge management, visual data analysis, verification and validation of computer models, computational biology, semantic data integration, software testing, human-robot interaction, human factors/security/core requirements/testing of voting systems, information visualization, systems biology, grid computing, service oriented architecture and complex systems, security for the IPv6 transition from and coexistence with IPv4, and device mobility among heterogeneous networks. For details on these various activities, please see the Information Technology Laboratory Web site at http://www.itl.nist.gov. Additionally, the ITL Grant Program will provide grants and cooperative agreements in support of conferences, workshops, and other technical research groups that focus on trends and future focus areas of information technology. Specific information regarding program objectives can be found in the corresponding Federal Funding Opportunity for this announcement.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the ITL Grants Program in order to be processed under this solicitation.

Addresses: Paper applications must be submitted to: Kamie Roberts, Information Technology Laboratory (ITL), National Institute of Standards and Technology, 100 Bureau Drive, Stop 8900, Gaithersburg, Maryland 20899-8900. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Kamie Roberts, Information Technology Laboratory (ITL), National Institute of Standards and Technology, 100 Bureau Drive, Stop 8900, Gaithersburg, MD 20899-8900, Tel.: (301) 975-2901, kamie.roberts@nist.gov, Fax: (301) 975-2378, Web site: http://www.itl.nist.gov. It is strongly suggested to first confirm the program objectives with the Program Manager prior to preparing a detailed proposal. Grants administration questions concerning this program should be addressed to: Melinda Chukran, NIST Grants and Agreements Management Division, (301) 975-5266; melinda.chukran@nist.gov. For assistance with using http://www.grants.gov, contact support@grants.gov.

Funding Availability: In fiscal year 2007, the Information Technology Laboratory funded 7 new awards, totaling $169,071.00. No funds have been set aside specifically for the Information Technology Laboratory Grants Program. The availability of funds depends upon actual authorization of funds and other costs expected to be incurred by the individual divisions. The amount available each year fluctuates considerably based on programmatic needs. In FY 2008, individual awards are expected to range between $10,000 and $150,000.

For the Information Technology Laboratory Grants Program, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Information Technology Laboratory Grants Program, and the availability of funds. The multi-year awards must have scopes of work that can be easily separated into annual increments of meaningful work that represent solid accomplishments if prospective funding is not made available to the applicant, (i.e., the scopes of work for each funding period must produce identifiable and meaningful results in and of themselves).

Statutory Authority: As authorized under 15 U.S.C. 272(b) and (c), the ITL conducts a basic and applied research program directly and through grants and cooperative agreements to eligible recipients.

Eligibility: The ITL Grants Program is open to institutions of higher education; hospitals; non-profit organizations; commercial organizations; state, local, and Indian tribal governments; foreign governments; organizations under the jurisdiction of foreign governments; and international organizations.

Review and Selection Process: For the Information Technology Laboratory (ITL) Grants Program, proposals will be reviewed in a three-step process. First, the Deputy Director of ITL, or appropriate designee, will determine the compatibility of the applicant's proposal with ITL Program Areas and the relevance to the objectives of the ITL Grants Program, described in the Program Description section above. If it is determined that the proposal is incomplete or non-responsive to the scope of the stated objectives, the proposal will not be reviewed for technical merit. If a proposal is determined to be incomplete or non-responsive, or if it is determined that all available funds have been exhausted, the proposal will not be reviewed for technical merit. Proposers may contact ITL at 301-975-2901 to find out if funds have been exhausted for the fiscal year. ITL will also post a notice on its Web site, http://www.itl.nist.gov, when funds are exhausted for the fiscal year. ITL will notify proposers in writing if their proposals are not reviewed for technical merit.

Second, at least three independent, objective individuals knowledgeable about the particular measurement science area described in the section above that the proposal addresses will conduct a technical review of each proposal, based on the evaluation criteria. Reviews will be conducted on a quarterly basis, and all responsive, complete proposals received and reviewed since the last quarter will be ranked based on the reviewers' scores. If non-Federal reviewers are used, the reviewers may discuss the proposals with each other, but scores will be determined on an individual basis, not as a consensus.

Third, the Division Chief, in accord with the Director of ITL, will make application selections, taking into consideration the results of the reviewers' evaluations, the availability of funds, and the relevance to the objectives or research areas described in the Program Description section above.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decisions of the Grants Officer are final.

Unsuccessful applicants will be notified in writing. The Program will retain one copy of each unsuccessful application for three years for record keeping purposes. The remaining copies will be destroyed.

For the ITL Grants Program, the evaluation criteria the technical reviewers will use in evaluating the proposals are as follows:

1. Rationality. Reviewers will consider the coherence of the applicant's approach and the extent to which the proposal effectively addresses scientific and technical issues.

2. Technical Merit of Contribution. Reviewers will consider the potential technical effectiveness of the proposal and the value it would contribute to the field of information technology research.

3. Qualifications of Technical Personnel. Reviewers will consider the professional accomplishments, skills, and training of the proposed personnel to perform the work in the project.

4. Resources Availability. Reviewers will consider the extent to which the proposer has access to the necessary facilities and overall support to accomplish project objectives.

Each of these factors will be given equal weight in the evaluation process.

Cost Share Requirements: The ITL Grants Program does not require any matching funds.

NIST Center for Neutron Research (NCNR) Grants Program

Program Description: The NIST Center for Neutron Research (NCNR) Grants Program will provide grants and cooperative agreements for research involving neutron scattering, for the development of innovative technologies that advance the state-of-the-art in neutron research, and for the support of conferences and/or workshops that advance these objectives. Specific information regarding program objectives can be found in the corresponding Federal Funding Opportunity to this announcement.

All proposals submitted to the NCNR Grants Program must be in accordance with the program objectives. These are to create novel approaches to advance high resolution cold and thermal neutron scattering research; to develop new applications of neutron scattering to physics, chemistry, and macromolecular and materials research; and to support the development of innovative technologies relevant to neutron research, including, for example, high resolution two-dimensional neutron detectors, neutron monochromators, and neutron focusing and polarizing devices. Awards to universities to help to promote research by university students at the NIST/NSF Center for High Resolution Scattering are also funded under this program. Dr. Dan Neumann should be contacted for any inquiries about the objectives for this NCNR program. He can be reached at (301) 975-5252 or by e-mail at dan.neumann@nist.gov.

Dates: All applications, paper and electronic, must be received no later than 5 p.m. Daylight Savings Time on June 29, 2008.

Addresses: Paper applications must be submitted to: Mr. Michael Moore, NIST Center for Neutron Research, National Institute of Standards and Technology, 100 Bureau Drive, Stop 8562, Gaithersburg, Maryland 20899-8562. Electronic applications and associated proposal information should be uploaded to http://www.grants.gov.

For Further Information Contact: For complete information about this program and instructions for applying by paper or electronically, read the Federal Funding Opportunity (FFO) Notice at http://www.grants.gov. A paper copy of the FFO may be obtained by calling (301) 975-6328. Program questions should be addressed to Dr. Dan Neumann, NIST Center for Neutron Research, National Institute of Standards and Technology, 100 Bureau Drive, Stop 8500, Gaithersburg, Maryland 20899-8562, Tel: (301) 975-5252, E-mail: dan@nist.gov. Grants administration questions concerning this program should be addressed to: Melinda Chukran, NIST Grants and Agreements Management Division, (301) 975-5266; melinda.chukran@nist.gov. For assistance with using http://www.grants.gov, contact support@grants.gov.

Funding Availability: The NCNR Grants Program will consider proposals lasting from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the NCNR program, and the availability of funds. The multi-year awards must have scopes of work that can be easily separated into annual increments of meaningful work that represent solid accomplishments if prospective funding is not made available to the applicant, i.e., the scopes of work for each funding period must produce identifiable and meaningful results in and of themselves. In fiscal year 2007, NCNR made three awards totaling $176,645. Most grants and cooperative agreements are expected to be in the $25,000 to $100,000 per year range.

Statutory Authority: As authorized under 15 U.S.C. 272 (b) and (c), the NCNR conducts a basic and applied research program directly and through grants and cooperative agreements to eligible recipients.

Eligibility: The NCNR Grants Program is open to institutions of higher education; hospitals; non-profit organizations; commercial organizations; state, local, and Indian tribal governments; foreign governments; organizations under the jurisdiction of foreign governments; and international organizations.

Review and Selection Process: Proposals submitted to the NCNR Grants Program will be reviewed in a two-step process. First, at least three independent, objective individuals knowledgeable about the particular scientific area described in the Program Description section above that the proposal addresses will conduct a technical review of proposals, as they are received on a rolling basis, based on the evaluation criteria. If non-Federal reviewers are used, the reviewers may discuss the proposals with each other, but scores will be determined on an individual basis, not as a consensus. Second, the Center Director will make application selections. In making application selections, the Center Director will take into consideration the results of the reviewers' evaluations, the availability of funds, and the relevance to the objectives or research areas of the NCNR Grants Program, described in the Program Description section.

The final approval of selected applications and award of financial assistance will be made by the NIST Grants Officer based on compliance with application requirements as published in this notice, compliance with applicable legal and regulatory requirements, whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: The NCNR Grants Program evaluation criteria that the technical reviewers will use in evaluating the proposals are as follows:

1. Rationality. Reviewers will assess the innovation, rationality, and coherence of the applicant's approach and the extent to which the proposal effectively addresses important scientific and technical issues using neutron methods and/or the development of innovative devices for neutron research. (0 to 35 points)

2. Qualifications of Technical Personnel. Reviewers will consider the professional accomplishments, skills, and training of the proposed personnel to perform the work in the project. (0 to 20 points)

3. Resources. Reviewers will consider the extent to which the proposer has access to the necessary resources, facilities, and overall support to accomplish project objectives, and will assess the budget against the proposed work to ascertain the reasonableness of the request. (0 to 20 points)

4. Technical Merit of Contribution. Reviewers will consider the potential technical effectiveness of the proposal and the value it would contribute to neutron research. (0 to 25 points)

Cost Share Requirements: The NCNR Grants Program does not require any matching funds.

Center for Nanoscale Science and Technology (CNST) Grants and Cooperative Agreements Program

Program Description: The Center for Nanoscale Science and Technology (CNST) Grants and Cooperative Agreements Program will offer financial assistance in the field of nanotechnology specifically aimed at developing essential measurement methods, instrumentation, and standards to support nanotechnology development, from discovery to production, conducting collaborative research with NIST scientists including research at the CNST Nanofab, a national facility for nanofabrication and measurement, and assisting visiting researchers at the CNST.

The primary program objectives of the financial assistance program in CNST are to develop new measurement methods, instrumentation and standards for nanotechnology and explore new areas of nanoscale science and technology in a variety of areas including nanofabrication, nanomagnetics, theory and modeling, post complementary metal oxide semiconductor electronics, nano electro mechanical systems, nanomotion and nanomanipulation, merging length scales, 2-D and 3-D structural and chemical imaging, electrical and magnetic dynamical response of nanostructures, electrical characterization of nanostructures, nanoscale properties of soft matter; to assist and train CNST collaborators and nanofabrication facility users in their research; and to conduct other outreach and educational activities that advance the development of nanotechnology by U.S. university and industrial scientists. This will entail collaborative research among the selected financial assistance recipients and CNST.

Dates: Applications will be considered on a continuing basis. Applications received after June 1, 2008 may be processed and considered for funding under this solicitation in the current fiscal year or in the next fiscal year, subject to the availability of funds. Applications, paper and electronic, must be received prior to the publication date in the Federal Register of the FY 2009 solicitation for the CNST Grants Program in order to be processed under this solicitation.

Addresses: Paper applications must be submitted to: Donna Lauren, Center for Nanoscale Science and Technology, National Institute of Standards and Technology, 100 Bureau Drive, Stop 6200, Gaithersburg, Maryland 20899-6200. Electronic applications and associated proposal information should be uploaded to grants.gov.

For Further Information Contact: For complete information about this program and instructions for applying by paper or electronically, read the Federal Funding Opportunity (FFO) Notice at http://www.grants.gov. A paper copy of the FFO may be obtained by calling (301) 975-6328. Program questions should be addressed to Donna Lauren, Center for Nanoscale Science and Technology, National Institute of Standards and Technology, 100 Bureau Drive, Stop 6200, Gaithersburg, Maryland 20899-6200. Tel (301) 975-3729, E-Mail: donna.lauren@nist.gov. Grants administration questions concerning this program should be addressed to: Melinda Chukran, NIST Grants and Agreements Management Division, (301) 975-5266; melinda.chukran@nist.gov. For assistance with using Grants.gov contact support@grants.gov.

Funding Availability: For the Center for Nanoscale and Science and Technology, proposals will be considered for research projects from one to five years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Center for Nanoscale Science and Technology Grants and Cooperative Agreements Program, and the availability of funds.

In fiscal year 2007, the CNST Grants and Cooperative Agreements Program made one award in the amount of $47,000. In fiscal year 2008, the CNST Grants and Cooperative Agreements Program anticipates funding of approximately $1,500,000, including new awards and continuing projects. Individual awards are expected to range from approximately $40,000 to $150,000 per year.

Statutory Authority: As authorized under 15 U.S.C. 272 (b) and (c), the NCNR conducts a basic and applied research program directly and through grants and cooperative agreements to eligible recipients.

Eligibility: The Center for Nanoscale Science and Technology is open to institutions of higher education; hospitals; non-profit organizations; commercial organizations; state, local, and Indian tribal governments; foreign governments; organizations under the jurisdiction of foreign governments; and international organizations.

Review and Selection Process: For the Center for Nanoscale Science and Technology (CNST) Grants and Cooperative Agreements Program, responsive proposals will be assigned, as received on a rolling basis, to the most appropriate area for review. Proposals will be reviewed in a three-step process. First, the CNST Deputy Director will determine the applicability of the proposal with regard to CNST programs and the relevance of the proposal's objectives to current CNST research. If it is determined that the proposal is incomplete or non-responsive to the scope of the stated objectives, the proposal will not be reviewed for technical merit. Second, the appropriate CNST Program Manager will determine the possibility for funding availability within the CNST technical program area most relevant to the objectives of the proposal. If it is determined that sufficient funding is not available to consider grants and cooperative agreement proposals in the technical area of the proposal, the proposal will not be reviewed for technical merit. Third, if the proposal passes the first two steps, at least three independent, objective individuals knowledgeable about the particular scientific area addressed by the proposal will conduct a technical review based on the evaluation criteria. If non-Federal reviewers are used, the reviewers may discuss the proposal with each other, but scores will be determined on an individual basis, not as a consensus.

The CNST Director will make application selections from the grants and cooperative agreement proposals submitted. In making the application selections, the Laboratory Director will take into consideration the results of the reviewers' evaluations, the availability of funds, and relevance to the objectives or research areas of the CNST Grants and Cooperative Agreements Program. These objectives are described above in the Program Description section.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

Evaluation Criteria: For the Center for Nanoscale Science and Technology (CNST) Grants and Cooperative Agreements Program, the technical reviewers will use the following evaluation criteria in evaluating the proposals:

1. Rationality. Reviewers will consider the coherence of the applicant's approach and the extent to which the proposal effectively addresses scientific and technical issues.

2. Qualifications of Technical Personnel. Reviewers will consider the professional accomplishments, skills, and training of the proposed personnel to perform the work in this project.

3. Resources Availability. Reviewers will consider the extent to which the proposer has access to the necessary facilities and overall support to accomplish project objectives.

4. Technical Merit of Contribution. Reviewers will consider the potential technical effectiveness of the proposal and the value it would contribute to the field of physics.

Each of these factors will be given equal weight in the evaluation process.

Cost Share Requirements: The Center for Nanoscale Science and Technology (CNST) Grants and Cooperative Agreements Program does not require any matching funds.

NIST Center for Neutron Research (NCNR) Sample Environment Equipment Financial Assistance Program

Program Description: The purpose of this notice is to inform potential applicants that the NCNR Sample Environment Equipment Financial Assistance Program is establishing a financial assistance program in the field of Neutron Scattering to develop, design, and construct new “sample environment equipment” that shall be made available for dedicated use by the general scientific user community on any or all of the NCNR neutron beam stations.

The primary objectives of this financial assistance program are to develop, design, and construct new, state-of-the-art equipment for dedicated use by the general scientific community on NCNR neutron beam stations that provide specific and well-controlled environments of scientific interest for in-situ studies of the microscopic properties of a broad range of sample materials such as molecular solids, thin films, biomolecules and biological membranes, solid state materials, polymers, and complex fluids, using neutron scattering and imaging techniques. Examples of sample environments include high (and/or pulsed) magnetic fields, high pressures, high (and/or pulsed) electric fields, variable humidity, high or low temperatures, variable shear, and various combinations thereof. A list of all the sample environment equipment at the NCNR that is currently available to the general user community is located at http://www.ncnr.nist.gov/equipment/ancequip.html.

Dates: All applications, paper and electronic, must be received no later than 5 p.m. Eastern Daylight Savings Time on May 30, 2008. Late applications will not be reviewed nor considered.

Addresses: Paper Applications: Each applicant must submit one signed original and two paper copies of the complete application as described below to Tanya Burke, National Institute of Standards and Technology, Center for Neutron Research, 100 Bureau Drive, STOP 6100, Gaithersburg, Maryland 20899-6100, phone (301) 975-4711. Electronic applications and associated proposal information should be uploaded to http://www.grants.gov. Facsimile, electronic mail, and other forms of electronic application submissions, other than electronic applications submitted through http://www.grants.gov, will not be accepted.

For Further Information Contact: For complete information about this program and instructions for applying by paper or electronically, read the Federal Funding Opportunity (FFO) Notice at http://www.grants.gov. A paper copy of the FFO may be obtained by calling (301) 975-6328. Technical questions can be directed to Dr. Dan Neumann at, NCNR, 100 Bureau Drive, MS 6100, Gaithersburg, MD 20899-6100, (301) 975-5252, Dan.Neumann@nist.gov. Grants administration questions concerning this program should be addressed to: Judy Murphy, NIST Grants and Agreements Management Division, (301) 975-5603; judy.murphy@nist.gov. For assistance with using http://www.grants.gov, contact support@grants.gov.

Funding Availability: Proposals will be considered for cooperative agreements with durations of up to three years, subject to the availability of funds, satisfactory progress, and the continuing relevance to the objectives of the NIST Center for Neutron Research. The anticipated level of funding is up to $150,000 per year. One to two awards are likely. The funding instrument used in this program will be a cooperative agreement. The nature of NIST's “substantial involvement” will generally be collaboration with the recipient(s) by working jointly with recipient scientists in carrying out the scope of work, or specifying direction or redirection of the scope of work due to inter-relationships with other programs requiring such cooperation. NIST will determine whether to fund one award for the full amount; to divide available funds into multiple awards of any size, and negotiate scopes of work and budgets as appropriate; or not to select any proposal for funding, upon completing the selection process described below.

Awards are anticipated to contain a start date of September 1, 2008.

Statutory Authority: As authorized under 15 U.S.C. 272 (b)(7) and (c)(8,10,16,17,19), the NCNR conducts a basic and applied research program directly and through grants and cooperative agreements to eligible recipients.

Eligibility: The NCNR Grants Program is open to institutions of higher education; hospitals; non-profit organizations; commercial organizations; state, local, and Indian tribal governments; foreign governments; organizations under the jurisdiction of foreign governments; and international organizations.

Review and Selection Process: All applications received in response to this announcement will be reviewed to determine whether or not they are complete and responsive to the scope of the stated program objectives. Incomplete or non-responsive applications will not be reviewed for technical merit. The Program will retain one copy of each non-responsive application for three years for record keeping purposes and destroy all other copies.

Responsive proposals will be evaluated using the evaluation criteria by an independent, objective panel composed of at least four individuals who are knowledgeable about neutron research, neutron spectroscopy, and neutron instrumentation. The reviewers will reach a consensus score resulting in a rank order of applicants. However, if non-Federal reviewers are used, each reviewer will evaluate and provide a score for each proposal without reaching a consensus.

The NCNR Director, serving as the Selecting Official, will make the award selection. In making the award selection, the NCNR Director will take into consideration the panels' technical evaluation. The NCNR Director, as the Selecting Official, may choose a proposal out of rank order based upon one or more of the following factors: (1) Availability of funds, (2) Redundancy, (3) Balance/distribution of funds by program objectives or research areas described in the Funding Opportunity Description section of this Notice, and (4) relevance to Program objectives described above in the Funding Opportunity Description section of this Notice, and (5) Logistical concerns that would be detrimental to the success or timely completion of the proposal objectives. Therefore, the highest scoring proposals may not necessarily be selected for an award. If an award is made to an applicant that deviates from the scores of the reviewers, the NCNR Director shall justify the selection in writing based on selection factors described above. The NCNR Director may select all, none, or some of the applications for funding.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

Evaluation Criteria: For the NCNR Sample Environment Equipment Financial Assistance Program, the technical reviewers will use the following criteria to evaluate the proposals:

1. Qualifications and experience of the Principal Investigator in neutron scattering research, as demonstrated by extensive publications and invited lectures in condensed matter physics, chemistry, material science, polymer science, biology, macromolecular science, and/or related fields. (10%)

2. Qualifications and experience of the proposed university staff in neutron scattering research or in related scientific or engineering areas that are key to the activities contained in the proposal, as demonstrated by resumes of staff proposed for this program. (5%)

3. Feasibility and rationality of the design and construction plan of the proposed sample environment equipment and its potential impact on neutron-based research, particularly in the areas of biology, macromolecular science, polymer science, condensed matter physics, and chemistry. (30%)

4. Quality of the plan in terms of providing assistance to U.S. researchers using the NCNR neutron facilities through sustained and dedicated access to unique and novel sample environment equipment. (20%)

5. Quality of the plan to integrate the sample environment equipment for dedicated use on one or more of the NCNR research facility neutron beam stations. (25%)

6. Cost effectiveness of the plan, including the completeness of the estimate to achieve the objectives stated in the proposal. (10%)

Cost Share Requirements: The NCNR Sample Environment Equipment Financial Assistance Program does not require any matching funds.

The following information applies to all programs announced in this notice:

The Department of Commerce Pre-Award Notification Requirements for Grants and Cooperative Agreements: The Department of Commerce Pre-Award Notification Requirements for Grants and Cooperative Agreements are contained in, 69 FR 78389 (Dec. 30, 2004), applies to this notice. On the form SF-424, the applicant's 9-digit Dun and Bradstreet Data Universal Numbering System (DUNS) number must be entered in the Applicant Identifier block (68 FR 38402).

Collaborations with NIST Employees: All applications should include a description of any work proposed to be performed by an entity other than the applicant, and the cost of such work should ordinarily be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR part 401, 15 CFR 14.36, and in section 20 of the Department of Commerce Pre-Award Notification Requirements 69 FR 78389 (Dec. 30, 2004). Questions about these requirements may be directed to the Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Collaborations Making Use of Federal Facilities: All applications should include a description of any work proposed to be performed using Federal Facilities. If an applicant proposes use of NIST facilities, the statement of work should include a statement of this intention and a description of the facilities. Any use of NIST facilities must be approved by appropriate NIST management and is at the sole discretion of NIST. Prior to beginning the merit review process, NIST will verify the availability of the facilities and approval of the proposed usage. Any unapproved facility use will be stricken from the proposal prior to the merit review. Examples of some facilities that may be available for collaborations are listed on the NIST Technology Services Web site, http://ts.nist.gov/.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other federal agencies regarding these topics, all regulatory policies and guidance adopted by DHHS, FDA, and other Federal agencies on these topics, and all Presidential statements of policy on these topics.

NIST will accept the submission of human subjects protocols that have been approved by Institutional Review Boards (IRBs) possessing a current registration filed with DHHS and to be performed by institutions possessing a current, valid Federal-wide Assurance (FWA) from DHHS. NIST will not issue a single project assurance (SPA) for any IRB reviewing any human subjects protocol proposed to NIST.

On August 9, 2001, the President announced his decision to allow Federal funds to be used for research on existing human embryonic stem cell lines as long as prior to his announcement (1) the derivation process (which commences with the removal of the inner cell mass from the blastocyst) had already been initiated and (2) the embryo from which the stem cell line was derived no longer had the possibility of development as a human being. NIST will follow guidance issued by the National Institutes of Health at http://ohrp.osophs.dhhs.gov/humansubjects/guidance/stemcell.pdf for funding such research.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: Funding for the programs listed in this notice is contingent upon the availability of Fiscal Year 2008 appropriations under The Consolidated Appropriations Act, 2008 (Pub. L. 110-161). In no event will the Department of Commerce be responsible for proposal preparation costs if these programs fail to receive funding or are cancelled because of other agency priorities. Publication of this announcement does not oblige the agency to award any specific project or to obligate any available funds. Funding of any award under any program announced in this notice is subject to the availability of funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Dated: January 22, 2008.
Richard F. Kayser,
Acting Deputy Director, NIST.

[FR Doc. E8-1334 Filed 1-24-08; 8:45 am]

BILLING CODE 3510-13-P